DEPARTMENT OF THE INTERIOR

Minerals Management Service

30 CFR Part 250

RIN 1010-AC82

Oil and Gas and Sulphur Operations in the Outer Continental Shelf—Document Incorporated by Reference—American Petroleum Institute's Specification 2C for Offshore Cranes

AGENCY: Minerals Management Service (MMS), Interior.

ACTION: Final rule.

SUMMARY: MMS is incorporating by reference into its regulations the Fifth Edition of the American Petroleum Institute's Specification for Offshore Cranes (API Spec 2C). MMS is taking this action to establish a minimum design standard for cranes installed on fixed platforms on the Outer Continental Shelf (OCS) after the effective date of this rule. The rule also requires lessees to equip all existing cranes installed on OCS fixed platforms with anti-two block safety devices. This final rule will ensure that OCS lessees use the best available and safest technologies for the design and construction of future cranes installed on the OCS.

EFFECTIVE DATE: March 17, 2003. The incorporation by reference of publications listed in the regulation is approved by the Director of the Federal Register as of March 17, 2003.

FOR FURTHER INFORMATION CONTACT: Wilbon Rhome, Industrial Specialist, Operations and Analysis Branch, at (703) 787-1587.

SUPPLEMENTARY INFORMATION: MMS is responsible for the regulation of cranes, booms, and other material-handling equipment installed on fixed platforms according to the 1998 MMS/United States Coast Guard (USCG) Memorandum of Understanding (MOU). MMS currently regulates cranes by requiring lessees and operators to comply with the American Petroleum Institute's Recommended Practice for the Operation and Maintenance of Offshore Cranes (API RP 2D), Fourth Edition. As outlined in the 1998 MOU, USCG is responsible for cranes, booms, and other material-handling equipment installed on mobile offshore drilling units and floating production systems. In short, MMS regulates cranes installed on fixed platforms and the USCG regulates cranes installed on floating facilities.

On July 19, 2001, we published a proposed rule in the Federal Register (66 FR 37611) to incorporate API's Specification for Offshore Cranes (API Spec 2C) and to require the installation of anti-two block devices on all cranes on fixed platforms. During the 90-day comment period (which ended on October 19, 2001), MMS received comments from one production operator, one contractor, one trade organization, one crane manufacturer, and three crane service companies. In the preamble to the proposed rule, we requested comments on nine specific questions. We grouped the comments to those questions and our responses in a table. Other comments and our responses follow.

Incorporation of API Spec 2C

This final rule adds API Specification 2C for Offshore Cranes, Fifth Edition, April 3, 1995, to those documents currently incorporated by reference into MMS regulations. MMS has reviewed this document and determined that incorporating it into our regulations ensures that industry uses the best available and safest technologies for the design and construction of cranes used on OCS fixed platforms.

The purpose of incorporating API Spec 2C into the regulations is to establish detailed requirements for the design and construction of pedestal-mounted cranes for new OCS fixed platforms. API Spec 2C includes minimum requirements for equipment, materials, manufacturing procedures, and testing (both design and operational) that are not covered in API RP 2D.

The proposed rule required that new cranes on OCS fixed platforms meet the requirements of API Spec 2C. Comments on the rule indicated that there was uncertainty about which cranes were considered new cranes. Commenters asked if a rental crane was considered a new crane when it moved to a new location and did that rental crane have to meet the requirements of API Spec 2C?

The intent of the proposed rule to incorporate API Spec 2C was twofold: (1) That newly manufactured cranes must be manufactured according to specifications of API Spec 2C; and (2) that cranes installed on new fixed platforms must be manufactured according to specifications of API Spec 2C. Since the use of the term “new” is not precise we revised the final rule by inserting the effective date of the final rule to clarify the intended requirements. We have revised paragraphs (c) and (d) in 30 CFR 250.108 to accurately reflect the intent of the proposed rule. These paragraphs read as follows:

“(c) If a fixed platform is installed after March 17, 2003, all cranes on the platform must meet the requirements of the American Petroleum Institute's Specification for Offshore Cranes (API Spec 2C), incorporated by reference as specified in 30 CFR 250.198.”

“(d) All cranes manufactured after March 17, 2003, and installed on a fixed platform, must meet the requirements of API Spec 2C, incorporated by reference as specified in 30 CFR 250.198.”

We do not use the term “rental crane” in the final rule because the comments indicated that there are differing definitions of what constitutes a rental crane. A rental crane must meet the same requirements as any other crane installed on a fixed platform. If a rental crane is manufactured after March 17, 2003, then it must meet the requirements of API Spec 2C. If a rental crane is installed on a fixed platform that was installed after March 17, 2003, then it must meet the requirements of API Spec 2C. The comments also raised the issue about the appropriate use of rental cranes. MMS will discuss this issue with interested parties after the publication of this final rule.

Several commenters pointed out that API Spec 2C applies only to pedestal-mounted cranes and that the requirements in the specification may not be appropriate for smaller cranes or other material-handling equipment. MMS understands that API Spec 2C provides specifications for pedestal-mounted cranes and that it is not intended for other types of material-handling equipment. MMS regulates other material-handling equipment by requiring lessees to operate and maintain that equipment in a manner that ensures safe operation and prevents pollution. The requirements for other material-handling equipment are contained in new 30 CFR 250.108(f), previously 30 CFR 250.108(b).

Requirement for Anti-Two Block Devices

This final rule also requires lessees to install anti-two block devices on all existing cranes within 2 years of the effective date of this rule. In the past, MMS has encouraged industry to equip all cranes operating on OCS fixed platforms with an anti-two block safety device, regardless of the age or specific use of the crane. MMS has now determined that anti-two block safety devices must be used on all cranes installed on OCS fixed platforms. We are convinced that retrofitting all existing cranes with the anti-two block safety devices will benefit the industry by increasing safety, and reducing crane incidents on the OCS.

Our concern was highlighted by the International Association of Drilling Contractors in October 2000 when it issued a safety alert titled “Near Miss—Anti-Two Blocking Devices.” This safety alert stated that anti-two block safety devices should be installed on all cranes because “Having a safety device like this ensures that everything is in place to prevent a problem. The anti-two block safety device for the crane boom is a protection device as is the crown protection device on the rig's drawworks. Both are very important to working safely.”

In response to comments, the final regulations provide a 2-year transition period for the retrofitting of existing OCS fixed platform cranes with anti-two block safety devices. This additional year will allow industry adequate time to implement this change without causing undue hardships.

Recordkeeping Requirements

With the incorporation of API Spec 2C, we would include additional recordkeeping requirements in 30 CFR 250.108 to be consistent with the specification. Current regulations require you to keep inspection, testing, and maintenance records at the OCS facility for at least 2 years. The proposed rule would have expanded this requirement to retain these records for the “life of the crane.” Comments received on the proposed rule assert that requiring the lessees to retain these records for the life of the crane would create a significant paperwork and administrative burden. Several commenters recommended that MMS should continue to follow our existing requirements of retaining crane records for 2 years. Another commenter said that keeping inspection, testing, and maintenance records for 4 years would provide a great predictive maintenance tool in determining integrity on previous and future discrepancies. Based on these comments, we have revised the final rule to require lessees to keep inspection, testing, and maintenance records for 4 years. We believe that keeping records for an additional 2 years will allow lessees to make an improved assessment of the crane maintenance program and identify any safety trends.

The final rule also requires the lessee to retain all design and construction records, including installation records for any anti-two block safety devices, for the life of the crane at the OCS fixed platforms. The rule further modifies 30 CFR 250.108 to require lessees to keep training records on rigger personnel, as well as those for crane operators. There were no comments objecting to these requirements.

Response to Comments on Preamble Questions

In the preamble to the proposed rule, we requested comments on nine specific questions. We have grouped the comments to those questions and our responses in the following table.

MMS questions | Comments received | MMS response
(a) Will the the addition of API Spec 2C to MMS' documents incorporated by reference increase safety and safe operations on the OCS? | Most commenters agreed that incorporating API Spec 2C would increase safety on the OCS? One commenter stated that there is too much flexibility in the interpretation of API Spec 2C for it to have any effect on safety. Noted flexibility shortcomings were that Spec 2C only applied to pedestal cranes, that more specificity was needed in presenting the basis of rating for load rating charts, and the noise level allowed was too high. | MMS has incorporated API Spec 2C in the regulations to promote safe crane operations on the OCS. MMS has determined that API Spec 2C is the best available reference for the design, construction, and testing of pedestal mounted cranes for offshore use. Any valid shortcomings of this document should be addressed in the next edition. It is not a shortcoming of this document in that it only applies to pedestal-mounted cranes.
(b) Are there other standards for offshore cranes that may be appropriate for MMS to incorporate as part of MMS' regulations? | All commenters with the exception of one responded “no” to this question. One commenter stated that MMS should accept cranes certified in accordance with the requirements of the American Bureau of Shipping (ABS) Certification of Cranes (ABS 1991). | MMS reviewed the ABS standard and, while we recognize that there are some similarities between ABS and API Sec 2C, we do not think that ABS is as widely accepted or recognized as an industry standard for cranes on OCS fixed platforms.
(c) When should MMS require all cranes on OCS fixed platforms to be fully compliant with API Spec 2C? | Most commenters said that many cranes cannot become compliant with API Spec 2C for a number of reasons (i.e., engineering data not available, some cranes used offshore are not offshore are not pedestal cranes so they cannot comply with API Spec 2C, etc). Even if you could retrofit some of the cranes the costs would exceed the benefits. A couple of commenters said MMS should grandfather older cranes under any new regulations. | MMS understands that there are many types of cranes working on fixed platforms on the OCS. The final rule clarifies that the only cranes that must meet the requirements of API Spec 2C are: • If a fixed platform is installed engineering data after March 17, 2003, all cranes on the platform must meet the requirements of the American Petroleum Institutes's Specification for Offshore Cranes (API Spec 2C), incorporated by references as specified in 30 CFR 250.108. • All cranes manufactured after March 17, 2003, and installed on a fixed platform, must meet the requirements of API Spec 2C, incorporated by reference as specified in 30 CFR 250.108. Except for these cases, the final rule does not prohibit the use of cranes that do not meet the requirements of API Spec 2C.
(d) Is a 1-year transition period enough time for industry to comply with the change proposed in 30 CFR 250.108(c)? | One commenter stated that 1 year should offer enough time to comply if MMS is willing to accept as “existing” any cranes that had been ordered prior to the date of the final rule. Several commenters stated that the 1-year transition period is inadequate and will not allow for a systematic approach for retrofitting pre-1983, older model, and existing mechanical cranes with the required anti-two block safety device. | MMS revised the final rule to provide 2 years instead of 1 year for installing the anti-two block safety device on all existing cranes because the proposed 1-year transition period did not allow adequate time for all lessees to install the anti-two block device on the necessary cranes. The final rule does not require the retrofitting of any cranes to the specifications of API Spec 2C.
(e) Should MMS establish a requirement similar to the U.S. Coast Guard (USCG), which requires cranes to be installed according to an approved crane plan and inspected and load tested by an Agency-approved third party when the crane is installed? | One commenter stated that it used a third-party crane servicing company to conduct the initial load test for all temporary crane installations and recommended this practice for all initial installations of temporary cranes. One commenter recommended the installation of cranes according to plan approved by a qualified engineer but third-party witnessing was not necessary. Another said API RP 2D adequately addresses requirements for new crane installations. Another period out the crane manufacturer or crane manufacturer's qualified agent should perform the installation, inspection, and load testing of new cranes. The commenter also saw no value in a third party witnessing the installation because it does not perform any type of inspection other than a walk-around, visual type of inspection. | This final rule does not require an approved crane plan or third-party inspection for the installation of cranes. As pointed out by several commenters, API RP 2D does address load testing for the installation of new cranes placed in service, cranes that are being permanently relocated, and rental cranes after each rig-up or relocation. However, MMS believes that the installation of rental cranes and the relocation of cranes are issues that warrant additional discussions with operators, crane manufacturers, crane service companies, and other interested parties. MMS will being discussions with interested parties after the publication of this final rule.
(f) Should MMS require all new cranes for installation on OCS fixed platforms to have an API monogram on the nameplate of the crane as evidence of certification of anti-two block safety device? | Several commenters pointed out that manufacturers that apply the API monogram to the nameplate are warranting that they have an API license and that the construction of the crane complies in all details to API Spec 2C (not limited just to certification of the anti-two block safety devices). | MMS understands that all manufacturers that participate in the monogram program must meet all requirements set forth in API Spec 2C, including evidence of certification of the anti-two block safety devices. The API monogram is strictly voluntary and MMS has no plans to make this program a requirement.
(g) Should a rental crane that is installed on OCS fixed platforms be considered a new crane and, therefore be required to be fully compliant with API Spec 2C? | All that commented said that rental cranes should not be considered a new crane. Additional comments were: • But rental cranes should meet API Spec 2C. • It is not practical to retroactively seek certification of existing rental cranes. • All new rental cranes should be compliant with API Spec 2C, but some existing rental cranes may not be able to be brought to the specification. “Rental cranes” covers a large variety of lifting devices. A considerable number of rental cranes are misrepresented. All rental cranes that are designed to pick up over 10,000 pounds should be required to meet the requirements of API Spec 2C. | The term “rental crane” is not used in the final rule. The final rule clarifies which cranes must meet the requirements of API Spec 2C. The response to question (c) identifies the cranes that must meet the specification. Comments on rental cranes indicated that there are differing definitions of what constitutes a rental crane. The comments also raise the issue about the appropriate use of rental cranes. MMS will include these issues in the discussion with interested parties after the publication of the final rule.
(h) Should MMS limit the type of anti-two block devices that are acceptable? What are the known failure rates of the different types? | One commenter said that all hydraulic cranes should have a shut down system as the anti-two block device. Mechanical cranes could allow for audible alarms until the crane has a major overhaul. Another commenter states that MMS should limit the types of anti-two block safety devices to those capable of shutting down the crane. One comment was that MMS should not limit the types of anti-two block devices because API 2C adequately addresses the issue. One comment suggested that MMS examine the Society of Automotive Engineers (SAE) standards regarding problems that may be encountered with the different types of anti-two block safety devices. One commenter stated the repeated testing as required by API RP 2D leads to the failure of the device. | The final does not limit the type of anti-two block devices that must be installed on all cranes. The final rule provides lessees and operators the flexibility and opportunity to choose the anti-two block safety device that best suits the particular operation. Limiting lessees to a certain type of anti-two block device could create a financial hardship and may not increase safety. It is the lessee's responsibility to operate its cranes safely. The MMS' review of the SAE standard did not reveal any new information that could be used as part of this final rule.
(i) Should MMS consider an additional cost factor for retrofitting existing cranes with the anti-two block safety device (e.g., an associated cost for the amount of time a crane is expected to be out-of-service while it is being retrofitted). | One commenter said that MMS should consider all costs associated with the installation of anti-two blocks. Another said MMS should consider out-of-service time while another commenter said that the time to install the necessary equipment could be planned to minimize or eliminate any out-of-service time. MMS should also consider the cost of replacing a crane if it can't be retrofitted for an anti-two block device | With proper planning (e.g., parts and personnel are at the work location before the crane is taken out of service), lessees should be able to keep out-of-service time a minimum. The final rule now provides a 2-year instead of the 1-year transition period that was in the proposed rule. This revision ensures that lessees will have sufficient time to install an anti-two block device without disrupting crane activities. MMS has determined that any additional costs associated with retrofitting existing cranes should be minimized and were considered in this rulemaking.

As noted in the responses to question (e), MMS believes that the installation of rental cranes and the relocation of cranes are issues that warrant additional attention. There have been numerous incidents and serious accidents involving the installation and use of rental cranes, including a fatal accident that occurred on May 5, 2002. However, any additional regulatory actions dealing with rental cranes are beyond the scope of this rulemaking. MMS will initiate discussions with operators, crane manufacturers, crane service companies, and other interested parties on the issues concerning rental cranes.

Finally, one commenter provided several relatively inexpensive suggestions and modifications for making older cranes (pre-1983) safer. These suggestions and modifications are:

• Maintain and post “Actual Lift Capacity Charts” in the cab of crane.

• Install high angle safety systems for lattice boom cranes or cranes that use a boom hoist and wire rope to lift the boom.

• Upgrade wire rope to meet the latest API Spec 2C safety factors.

• Post caution signs on all pre-1983 cranes and all non-API cranes to warn the crane operators that these cranes may not have the same safety factors as cranes built after 1983.

MMS is passing these suggestions on to lessees, operators, and contractors in the hope that they may be used to improve crane safety on the OCS.

Procedural Matters

The specifications in the API Spec 2C document we are incorporating by reference are currently widely accepted industry standards. The USCG has already incorporated API Spec 2C into its regulations. All cranes manufactured after 1983 came equipped with the anti-two block safety devices, and many earlier model cranes have been retrofitted with the anti-two block safety devices. The final rule will cause lessees to retrofit approximately 200 cranes that currently do not have anti-two block devices. MMS estimates that this will cost lessees approximately $800,000. The final rule also provides 2 years for industry to complete the retrofit. The 2-year period will allow industry to schedule the required retrofits in a systematic approach. Therefore, this regulation's impact on the entire OCS oil and gas industry is minor.

Regulatory Planning and Review (Executive Order 12866)

This document is not a significant rule and is not subject to review by the Office of Management and Budget (OMB) under Executive Order 12866.

(1) This rule will not have an annual economic effect of $100 million or adversely affect an economic sector, productivity, jobs, the environment, or other units of government. A cost-benefit and economic analysis is not required. The major purpose of this final rule is to establish a minimum design standard for future cranes installed on fixed platforms on the OCS and to prevent accidents that can be prevented by equipping cranes with anti-two block safety devices. This rule requires lessees to equip all existing cranes installed on OCS fixed platforms with anti-two block safety devices by March 16, 2005. Since API Spec 2C has already been accepted as an industry standard by most of the offshore community, including the USCG, the impact of this regulation on the entire industry is minor. Therefore, the associated costs to equip the remaining cranes, not previously retrofitted with anti-two block safety devices, will be minor. Based on our experience and information in MMS's Technical Information Management System, we estimate that about 5 percent (or a total of not more than 200) of the estimated 4,000 cranes located on OCS fixed platforms will need to be retrofitted with the anti-two block safety device. We estimate that this will cost approximately $4,000 per retrofit, for a total cost of not more than $800,000.

(2) This final rule will not create inconsistencies with other agencies' actions. This rule will not affect how lessees or operators interact with other agencies.

(3) This final rule will not affect entitlements, grants, user fees, loan programs, or their recipients. The rule deals only with the action to incorporate by reference API Spec 2C into our regulations.

(4) This final rule will not raise novel legal or policy issues. The final rule does involve a new policy issue to require lessees to equip all new and existing cranes installed on OCS fixed platforms with anti-two block safety devices, but this new policy decision is not “novel.” The final rule simply addresses recognized gaps in our safety regulations. These minimum requirements are generally accepted industry practices.

Regulatory Flexibility (RF) Act

The Department certifies that this rule will not have a significant economic effect on a substantial number of small entities as defined under the RF Act (5 U.S.C. 601 et seq.). An RF Analysis is not required. Accordingly, a Small Entity Compliance Guide is not required.

The provisions of this rule will not have a significant economic effect on lessees and operators, including those that are classified as small businesses. The Small Business Administration (SBA) defines a small business as having:

• Annual revenues of $5 million or less for exploration service and field service companies.

• Fewer than 500 employees for drilling companies and for companies that extract oil, gas, or natural gas liquids.

Offshore lessees/operators are classified under SBA's North American Industry Classification System (NAICS) code 211111 (Crude Petroleum and Natural Gas Extraction) and NAICS 213111 code (Drilling Oil and Gas Wells). We estimate approximately 130 companies will be affected by this rulemaking. According to SBA criteria, 39 companies are large firms, leaving approximately 91 companies (70 percent) that may qualify as small firms with fewer than 500 employees.

We estimate that about 5 percent of the 4,000 cranes (not more than 200) located on the OCS need to be retrofitted with anti-two block safety devices. Retrofitting an existing crane with an anti-two block system would cost approximately $4,000. Since 70 percent of the businesses operating on the OCS are small business firms, a corresponding 70 percent of the 200 cranes to be retrofitted would most likely involve small entities. The cost to small entities to retrofit these 140 cranes with anti-two block safety devices to comply with this standard is estimated to be $560,000 (140 × $4,000 = $560,000).

While MMS does not know how many cranes each small operator must retrofit, MMS expects that the typical small operator would need to retrofit one or two cranes during the 2-year period allowed by the final rule. The cost for the typical small operator would be between $4,000 and $8,000 over the 2-year period. This cost does not constitute a significant impact to the typical small operator. There may be a few small operators that will need to retrofit several more cranes than the typical small operator. The costs for these few small operators could double or triple the costs incurred by the typical small operator. However, MMS believes that even these increased costs do not constitute a significant impact to these small operators. In addition, an operator can decide not to retrofit the crane with an anti-two block device. The operator has the option of taking the crane out of service or obtaining a rental crane to take its place. Therefore, this rule does not constitute a significant impact upon a substantial number of small entities.

This final rule applies to all lessees and operating companies that operate cranes on OCS fixed platforms. Incorporation of this new document into MMS regulations will:

(1) Increase safety;

(2) Provide the oil and gas industry with uniform guidelines and detailed requirements for design and construction of pedestal-mounted cranes for OCS fixed platforms; and

(3) Provide for consistency with other regulatory agencies such as the USCG.

Your comments are important. The Small Business and Agriculture Regulatory Enforcement Ombudsman and 10 Regional Fairness boards were established to receive comments from small businesses about Federal agency enforcement actions. The Ombudsman will annually evaluate the enforcement activities and rate each agency's responsiveness to small business. If you wish to comment on the enforcement actions of MMS, call toll-free (888) 734-3247. You may comment to the Small Business Administration without fear of retaliation. Disciplinary action for retaliation by an MMS employee may include suspension or termination from employment with the Department of the Interior.

Small Business Regulatory Enforcement Fairness Act (SBREFA)

This rule is not a major rule under 5 U.S.C. 804(2), SBREFA. This rule:

(1) Does not have an annual effect on the economy of $100 million or more. The final rule will not cause any significant costs to lessees or operators. The only costs will be the purchase of the API Spec 2C document, minor revisions to company operating procedures, and the installation of an anti-two block device on cranes installed on OCS fixed platforms that do not already have this safety device. These costs should be approximately $800,000 for the entire industry.

(2) Will not cause a major increase in costs or prices for consumers, individual industries, Federal, State, or local government agencies, or geographic regions.

(3) Will not have a significant adverse effect on competition, employment, investment, productivity, innovation, or the ability of United States-based enterprises to compete with foreign-based enterprises. This rule applies to the lessees operating cranes on OCS fixed platforms.

Paperwork Reduction Act (PRA) of 1995

According to the PRA, an agency may not conduct or sponsor a collection of information unless it displays a current OMB control number. Until OMB approves the collection of information and assigns a control number, you are not required to respond. In connection with the proposed rulemaking, we submitted the information collection requirements to OMB for review and approval under section 3507(d) of the PRA. OMB approved the collection and assigned OMB control number 1010-0146, with a current expiration date of September 30, 2004. The information collection requirements in these final regulations remain unchanged from those OMB approved for the proposed rule, with one exception. We reduced certain proposed record retention requirements from “life of the crane” to 4 years. Since this change will have no effect on the annual paperwork burden of the regulations, we have determined that MMS is not required to resubmit the information collection requirements in the final regulations to OMB for approval.

The title of the collection of information for this final rule is “30 CFR 250, Subpart A—Crane Requirements.” Potential respondents are approximately 130 Federal OCS lessees and operators. The paperwork requirements in the final regulations are mandatory. This collection does not include proprietary information or questions of a sensitive nature. MMS will use the information to determine that crane operations are safe and that crane operators and rigger personnel meet the physical qualifications and have completed appropriate training.

Current regulations at 30 CFR 250.108(d)(2) require that lessees retain records on testing, inspection, and maintenance of cranes installed on OCS fixed platforms for 2 years, and retain records on crane operator qualifications for at least 4 years. As previously discussed, this final regulation revises the 2-year retention period to 4 years, and expands the qualification recordkeeping to include rigger personnel as well as crane operators. The final regulations also require lessees to retain records on crane design, construction, and retrofitting for the life of the crane. MMS estimated the paperwork burden to be an additional 2 hours per respondent each year for the expanded recordkeeping requirements. OMB approved a for a total of 260 annual burden hours for this requirement.

Federalism (Executive Order 13132)

According to Executive Order 13132, this rule does not have Federalism implications. This rule does not substantially and directly affect the relationship between the Federal and State governments because it concerns the manufacturing requirements for specific equipment used in offshore oil and gas activities. The rule only affects manufacturers and users of such equipment. This rule does not impose costs on State or localities, as it only affects manufacturers and users of specific equipment used in offshore oil and gas activities.

Takings Implication Assessment (Executive Order 12630)

According to Executive Order 12630, this rule does not have significant Takings implications. A Takings Implication Assessment is not required.

Civil Justice Reform (Executive Order 12988)

According to Executive Order 12988, the Office of the Solicitor has determined that this rule does not unduly burden the judicial system and meets the requirements of sections 3(a) and 3(b)(2) of the Order.

National Environmental Policy Act (NEPA) of 1969

This rule does not constitute a major Federal action significantly affecting the quality of the human environment. A detailed statement under the NEPA is not required.

Unfunded Mandates Reform Act (UMRA) of 1995

This rule does not impose an unfunded mandate on State, local, and tribal governments or the private sector of more than $100 million per year. The rule does not have a significant or unique effect on State, local, or tribal governments or the private sector. A statement containing the information required by the UMRA (2 U.S.C. 1531 et seq.) is not required.

Government-to-Government Relationship With Tribes

According to the President's memorandum of April 29, 1994, “Government-to-Government Relations with Native American Tribal Governments” (59 FR 22951) and 512 DM 2, we have determined that there are no effects from this action on Federally-recognized Indian tribes.

List of Subjects

Continental shelf, Environmental impact statements, Environmental protection, Government contracts, Incorporation by reference, Investigations, Mineral royalties, Oil and gas development and production, Oil and gas exploration, Oil and gas reserves, Penalties, Pipelines, Public lands—mineral resources, Public lands—rights-of-way, Reporting and recordkeeping requirements, Sulphur development and production, Sulphur exploration, Surety bonds.

Dated: January 29, 2003.
Rebecca W. Watson,
Assistant Secretary, Land and Mineral Management.

For the reasons stated in the preamble, the Minerals Management Service amends 30 CFR part 250 as follows:

PART 250—OIL AND GAS AND SULPHUR OPERATIONS IN THE OUTER CONTINENTAL SHELF

1. The authority citation for part 250 continues to read as follows:

Authority: 43 U.S.C. 1331, et seq.

2. Section 250.108 is revised as follows:

§ 250.108 What requirements must I follow for cranes and other material-handling equipment?

(a) All cranes installed on fixed platforms must be operated in accordance with American Petroleum Institute's Recommended Practice for Operation and Maintenance of Offshore Cranes (API RP 2D), incorporated by reference as specified in 30 CFR 250.198.

(b) All cranes installed on fixed platforms must be equipped with a functional anti-two block device by March 16, 2005.

(c) If a fixed platform is installed after March 17, 2003, all cranes on the platform must meet the requirements of the American Petroleum Institute's Specification for Offshore Cranes (API Spec 2C), incorporated by reference as specified in 30 CFR 250.198.

(d) All cranes manufactured after March 17, 2003, and installed on a fixed platform, must meet the requirements of API Spec 2C, incorporated by reference as specified in 30 CFR 250.198.

(e) You must maintain records specific to a crane or the operation of a crane installed on an OCS fixed platform, as follows:

(1) Retain all design and construction records, including installation records for any anti-two block safety devices, for the life of the crane. The records must be kept at the OCS fixed platform.

(2) Retain all inspection, testing, and maintenance records of cranes for at least 4 years. The records must be kept at the OCS fixed platform.

(3) Retain the qualification records of the crane operator and all rigger personnel for at least 4 years. The records must be kept at the OCS fixed platform.

(f) You must operate and maintain all other material-handling equipment in a manner that ensures safe operations and prevents pollution.

3. In § 250.198, in the table in paragraph (e) a new entry for “API Spec 2C” is added in alphanumerical order, and the entry for “API RP 2D” is revised as follows:

§ 250.198 Documents incorporated by reference.

* * * * *

(e) * * *

Title of documents | Incorporated by reference at
* * * * * * *
API Spec 2C, Specification for Offshore Cranes, Fifth Edition, April 1, 1995, API Stock No. G02C05 | § 250.108(c) and (d).
API RP 2D, Recommended Practice for Operation and Maintenance of Offshore Cranes, Fourth Edition, August 1, 1999, API Stock No. G02D04 | § 250.108(a).
* * * * * * *

[FR Doc. 03-3424 Filed 2-13-03; 8:45 am]

BILLING CODE 4310-MR-P